DEPARTMENT OF TRANSPORTATION

Federal Aviation Administration

[Summary Notice No. PE-2002-69]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Vanessa Wilkins, Office of Rulemaking (ARM-1), Federal Aviation Administration, 800 Independence Avenue, SW., Washington, DC 20591. Tel. (202) 267-8029.

This notice is published pursuant to 14 CFR 11.85 and 11.91.

Issued in Washington, DC, on December 12, 2002.
Donald P. Byrne,
Assistant Chief Counsel for Regulations.

Dispositions of Petitions

Docket No.: FAA-2002-13291.

Petitioner: Pulaski Technical College.

Section of 14 CFR Affected: 14 CFR 65.17.

Description of Relief Sought/Disposition: To permit Pulaski Technical College to administer the aviation mechanic general written test to students immediately following their successful completion of the general curriculum but before they meet the experience requirements of 14 CFR 65.77.

Grant, 11/25/2002, Exemption No. 7926.

Docket No.: FAA-2000-8177.

Petitioner: Experimental Aircraft Association, Inc., (EAA) and the Commemorative Air Force (CAF).

Section of 14 CFR Affected: 14 CFR 45.25 and 45.29.

Description of Relief Sought/Disposition: To allow EAA and CAF members to operate historic military aircraft with 2-inch-high nationality and registration marks located under the horizontal stabilizer.

Grant, 11/22/2002, Exemption No. 5109G.

Docket No.: FAA-2002-11799.

Petitioner: Matsushita Avionics Systems Corporation (MAS).

Section of 14 CFR Affected: 14 CFR 21.325(b)(3).

Description of Relief Sought/Disposition: To permit to allow MAS airworthiness representatives, reporting to an organizational designated airworthiness representative at MAS Bothell, to issue export airworthiness approvals for class III products manufactured by MAS Osaka.

Grant, 11/21/2002, Exemption No. 7925.

[FR Doc. 02-31883 Filed 12-17-02; 8:45 am]

BILLING CODE 4910-13-P